SECURITIES AND EXCHANGE COMMISSION

[File No. 500-1]

In the Matter of Camelot Entertainment Group, Inc., Cavico Corp., Global 8 Environmental Technologies, Inc., GTC Telecom Corp., ICF Corporation, and New NRG, Inc.; Order of Suspension of Trading

July 23, 2013.

It appears to the Securities and Exchange Commission that there is a lack of current and accurate information concerning the securities of Camelot Entertainment Group, Inc. because it has not filed any periodic reports since the period ended September 30, 2010.

It appears to the Securities and Exchange Commission that there is a lack of current and accurate information concerning the securities of Cavico Corp. because it has not filed any periodic reports since the period ended September 30, 2010.

It appears to the Securities and Exchange Commission that there is a lack of current and accurate information concerning the securities of Global 8 Environmental Technologies, Inc. because it has not filed any periodic reports since the period ended June 30, 2009.

It appears to the Securities and Exchange Commission that there is a lack of current and accurate information concerning the securities of GTC Telecom Corp. because it has not filed any periodic reports since the period ended March 31, 2007.

It appears to the Securities and Exchange Commission that there is a lack of current and accurate information concerning the securities of ICF Corporation because it has not filed any periodic reports since the period ended September 30, 2005.

It appears to the Securities and Exchange Commission that there is a lack of current and accurate information concerning the securities of New NRG, Inc. because it has not filed any periodic reports since the period ended December 31, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 23, 2013, through 11:59 p.m. EDT on August 5, 2013.

By the Commission.
Jill M. Peterson,
Assistant Secretary.

[FR Doc. 2013-17973 Filed 7-23-13; 4:15 pm]

BILLING CODE 8011-01-P